NATIONAL FOUNDATION ON THE ARTS AND THE HUMANITIES

National Endowment for the Arts; Arts Advisory Panel

Pursuant to Section 10(a)(2) of the Federal Advisory Committee Act (Pub. L. 92-463), as amended, notice is hereby given that eight meetings of the Arts Advisory Panel to the National Council on the Arts will be held at the Nancy Hanks Center, 1100 Pennsylvania Avenue, NW., Washington, DC, 20506 as follows (ending times are approximate):

Design (application review): June 29-June 30, 2010 in Room 730. A portion of this meeting, from 1:30 p.m. to 2:30 p.m. on June 30th, will be open to the public for a policy discussion. The remainder of the meeting, from 9 a.m. to 5:30 p.m. on June 29th, and from 9 a.m. to 1:30 p.m. and 2:30 p.m to 3:30 p.m. on June 30th, will be closed.

Theater (application review): June 28-July 1, 2010 in Room 716. A portion of this meeting, from 9 a.m. to 10 a.m. on June 30th, will be open to the public for a policy discussion. The remainder of the meeting, from 9 a.m. to 5:30 p.m. on June 28th, from 9 a.m. to 6 p.m. on June 29th, from 10 a.m. to 6 p.m. on June 30th, and from 9 a.m. to 3 p.m. on July 1st, will be closed.

Musical Theater (application review): July 8-9, 2010 in Room 716. This meeting, from 9 a.m. to 6 p.m. on July 8th and from 9 a.m. to 3 p.m. on July 9th, will be closed.

Music (application review): July 13-16, 2010 in Room 714. This meeting, from 9 a.m. to 6 p.m. on July 13th-15th, and from 9 a.m. to 3:30 p.m. on July 16th, will be closed.

Visual Arts (application review): July 13-16, 2010 in Room 716. This meeting, from 9 a.m. to 5:30 p.m. on July 13th, from 9 a.m. to 6 p.m. on July 14th and 15th, and from 9 a.m. to 3 p.m. on July 16th, will be closed.

Museums (application review): July 20-23, 2010 in Room 730. This meeting, from 9 a.m. to 5:30 p.m. on July 20th, from 9 a.m. to 6 p.m. on July 21st and 22nd, and from 9 a.m. to 3 p.m. on July 23rd, will be closed.

Theater (application review): July 20-23, 2010 in Room 714. A portion of this meeting, from 9 a.m. to 10 a.m. on July 22nd, will be open to the public for a policy discussion. The remainder of the meeting, from 9 a.m. to 5:30 p.m. on July 20th, from 9 a.m. to 6 p.m. on July 21st, from 10 a.m. to 6 p.m. on July 22nd, and from 9 a.m. to 3 p.m. on July 23rd, will be closed.

Music (application review): July 27-30, 2010 in Room 714. This meeting, from 9 a.m. to 6 p.m. on July 27th-29th and from 9 a.m. to 3:30 p.m. on July 30th, will be closed.

The closed portions of meetings are for the purpose of Panel review, discussion, evaluation, and recommendations on financial assistance under the National Foundation on the Arts and the Humanities Act of 1965, as amended, including information given in confidence to the agency. In accordance with the determination of the Chairman of November 10, 2009, these sessions will be closed to the public pursuant to subsection (c)(6) of section 552b of Title 5, United States Code.

Any person may observe meetings, or portions thereof, of advisory panels that are open to the public, and if time allows, may be permitted to participate in the panel's discussions at the discretion of the panel chairman. If you need any accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC, 20506, or call 202/682-5691.

Dated: June 4, 2010.
Kathy Plowitz-Worden,
Panel Coordinator, Panel Operations, National Endowment for the Arts.

[FR Doc. 2010-13836 Filed 6-8-10; 8:45 am]

BILLING CODE 7537-01-P